DEPARTMENT OF HEALTH AND HUMAN SERVICES

Health Resources and Services Administration

National Vaccine Injury Compensation Program; List of Petitions Received

AGENCY: Health Resources and Services Administration (HRSA), Department of Health and Human Services (HHS).

ACTION: Notice.

SUMMARY: HRSA is publishing this notice of petitions received under the National Vaccine Injury Compensation Program (the Program), as required by the Public Health Service (PHS) Act, as amended. While the Secretary of HHS is named as the respondent in all proceedings brought by the filing of petitions for compensation under the Program, the United States Court of Federal Claims is charged by statute with responsibility for considering and acting upon the petitions.

FOR FURTHER INFORMATION CONTACT: For information about requirements for filing petitions, and the Program in general, contact Lisa L. Reyes, Clerk of Court, United States Court of Federal Claims, 717 Madison Place NW, Washington, DC 20005, (202) 357-6400. For information on HRSA's role in the Program, contact the Director, National Vaccine Injury Compensation Program, 5600 Fishers Lane, Room 8W-25A, Rockville, Maryland 20857; (301) 443-6593, or visit our website at: http://www.hrsa.gov/vaccinecompensation/index.html.

SUPPLEMENTARY INFORMATION: The Program provides a system of no-fault compensation for certain individuals who have been injured by specified childhood vaccines. Subtitle 2 of Title XXI of the PHS Act, 42 U.S.C. 300aa-10 et seq., provides that those seeking compensation are to file a petition with the United States Court of Federal Claims and to serve a copy of the petition to the Secretary of HHS, who is named as the respondent in each proceeding. The Secretary has delegated this responsibility under the Program to HRSA. The Court is directed by statute to appoint special masters who take evidence, conduct hearings as appropriate, and make initial decisions as to eligibility for, and amount of, compensation.

A petition may be filed with respect to injuries, disabilities, illnesses, conditions, and deaths resulting from vaccines described in the Vaccine Injury Table (the Table) set forth at 42 CFR 100.3. This Table lists for each covered childhood vaccine the conditions that may lead to compensation and, for each condition, the time period for occurrence of the first symptom or manifestation of onset or of significant aggravation after vaccine administration. Compensation may also be awarded for conditions not listed in the Table and for conditions that are manifested outside the time periods specified in the Table, but only if the petitioner shows that the condition was caused by one of the listed vaccines.

Section 2112(b)(2) of the PHS Act, 42 U.S.C. 300aa-12(b)(2), requires that “[w]ithin 30 days after the Secretary receives service of any petition filed under section 2111 the Secretary shall publish notice of such petition in the Federal Register.” Set forth below is a list of petitions received by HRSA on July 1, 2024, through July 31, 2024. This list provides the name of the petitioner, city, and state of vaccination (if unknown then the city and state of the person or attorney filing the claim), and case number. In cases where the Court has redacted the name of a petitioner and/or the case number, the list reflects such redaction.

Section 2112(b)(2) also provides that the special master “shall afford all interested persons an opportunity to submit relevant, written information” relating to the following:

1. The existence of evidence “that there is not a preponderance of the evidence that the illness, disability, injury, condition, or death described in the petition is due to factors unrelated to the administration of the vaccine described in the petition,” and

2. Any allegation in a petition that the petitioner either:

a. “[S]ustained, or had significantly aggravated, any illness, disability, injury, or condition not set forth in the Vaccine Injury Table but which was caused by” one of the vaccines referred to in the Table, or

b. “[S]ustained, or had significantly aggravated, any illness, disability, injury, or condition set forth in the Vaccine Injury Table the first symptom or manifestation of the onset or significant aggravation of which did not occur within the time period set forth in the Table but which was caused by a vaccine” referred to in the Table.

In accordance with section 2112(b)(2), all interested persons may submit written information relevant to the issues described above in the case of the petitions listed below. Any person choosing to do so should file an original and three (3) copies of the information with the Clerk of the United States Court of Federal Claims at the address listed above (under the heading FOR FURTHER INFORMATION CONTACT), with a copy to HRSA addressed to Director, Division of Injury Compensation Programs, Health Systems Bureau, 5600 Fishers Lane, 8W-25A, Rockville, Maryland 20857. The Court's caption (Petitioner's Name v. Secretary of HHS) and the docket number assigned to the petition should be used as the caption for the written submission. Chapter 35 of Title 44, United States Code, related to paperwork reduction, does not apply to information required for purposes of carrying out the Program.

Carole Johnson,
Administrator.

List of Petitions Filed

1. Dennis E. Olson, Jr., Elk River, Minnesota, Court of Federal Claims No: 24-1004V

2. Robert Rogers, Fox Lake, Wisconsin, Court of Federal Claims No: 24-1005V

3. Madeleine King Peterson, Lakewood Ranch, Florida, Court of Federal Claims No: 24-1006V

4. Donvonta R. Pearson, Boscobel, Wisconsin, Court of Federal Claims No: 24-1011V

5. David Carter, Winnebago, Wisconsin, Court of Federal Claims No: 24-1012V

6. Kevin Weikert, Missoula, Montana, Court of Federal Claims No: 24-1013V

7. Season Slunt, Titusville, Florida, Court of Federal Claims No: 24-1014V

8. Misty Stein, Gig Harbor, Washington, Court of Federal Claims No: 24-1015V

9. Sarah Hooper on behalf of E.H., Las Vegas, Nevada, Court of Federal Claims No: 24-1016V

10. Robin Cooper, Galesburg, Illinois, Court of Federal Claims No: 24-1022V

11. Sarah Jackson, Harvest, Alabama, Court of Federal Claims No: 24-1025V

12. Ted Poulos, Barnegat, New Jersey, Court of Federal Claims No: 24-1026V

13. Michelle Rizzo, Boston, Massachusetts, Court of Federal Claims No: 24-1027V

14. Marsha Atkins, Prattville, Alabama, Court of Federal Claims No: 24-1031V

15. Melissa Chockley, Fort Myer, Virginia, Court of Federal Claims No: 24-1033V

16. Dimitra Charisi, San Jose, California, Court of Federal Claims No: 24-1035V

17. George Ferree, Clarksville, Pennsylvania, Court of Federal Claims No: 24-1036V

18. David A. Higham, San Clemente, California, Court of Federal Claims No: 24-1037V

19. Heidi Farquharson, Tulsa, Oklahoma, Court of Federal Claims No: 24-1038V

20. Beverly Clark, Allegan, Michigan, Court of Federal Claims No: 24-1039V

21. Wanda Barragan, Ontario, California, Court of Federal Claims No: 24-1040V

22. Helen Marks, Beaumont, Texas, Court of Federal Claims No: 24-1041V

23. Christian Sturz, Rye, New York, Court of Federal Claims No: 24-1042V

24. Linda Copeland, Jamaica, New York, Court of Federal Claims No: 24-1043V

25. Belinda Lamebull, Great Falls, Montana, Court of Federal Claims No: 24-1044V

26. Dionte Nowels, Boscobel, Wisconsin, Court of Federal Claims No: 24-1045V

27. Steven Fields, Dresher, Pennsylvania, Court of Federal Claims No: 24-1050V

28. Travis A. Curtis, Boscobel, Wisconsin, Court of Federal Claims No: 24-1058V

29. Joanna Boeing, Concord, California, Court of Federal Claims No: 24-1059V

30. Seth Pfister, Redgranite, Wisconsin, Court of Federal Claims No: 24-1061V

31. Hyo Jung Jeong, St. Louis, Missouri, Court of Federal Claims No: 24-1062V

32. Pedro Mora on behalf of F.M.A., Spring, Texas, Court of Federal Claims No: 24-1064V

33. Dawn Fite, Boston, Massachusetts, Court of Federal Claims No: 24-1067V

34. Kerry James, Gainesville, Florida, Court of Federal Claims No: 24-1068V

35. Donald Smith, Seward, Alaska, Court of Federal Claims No: 24-1071V

36. Luz Alvarado, Pittsford, New York, Court of Federal Claims No: 24-1073V

37. Anthi Manolakaki, Great Falls, Montana, Court of Federal Claims No: 24-1074V

38. James Hamilton, Sr., Hardwick, Georgia, Court of Federal Claims No: 24-1075V

39. Robert Garretson, Irvine, California, Court of Federal Claims No: 24-1079V

40. David C. Hill, Twin Falls, Idaho, Court of Federal Claims No: 24-1080V

41. Russell Yerger, Burlington, Washington, Court of Federal Claims No: 24-1081V

42. Haniyyah Siddique, Skokie, Illinois, Court of Federal Claims No: 24-1082V

43. Lenore Franklin, Brookings, South Dakota, Court of Federal Claims No: 24-1083V

44. Ryan Cigler, Gilbert, Arizona, Court of Federal Claims No: 24-1085V

45. Sheila Gayle, Bend, Oregon, Court of Federal Claims No: 24-1086V

46. Carol Barstow, Wakefield, Rhode Island, Court of Federal Claims No: 24-1091V

47. James Eddie Goodwin, Panama City Beach, Florida, Court of Federal Claims No: 24-1093V

48. Karen Debolle, Jupiter, Florida, Court of Federal Claims No: 24-1094V

49. Matthew Allen, Murfreesboro, Tennessee, Court of Federal Claims No: 24-1096V

50. Sahra Kahn on behalf of M.A.K., Harrisburg, Pennsylvania, Court of Federal Claims No: 24-1098V

51. Donald Rader, Gastonia, North Carolina, Court of Federal Claims No: 24-1099V

52. Mary O. Lilly, Millersville, Maryland, Court of Federal Claims No: 24-1101V

53. Kathleen Ohlman, Fort Myers, Florida, Court of Federal Claims No: 24-1104V

54. Suzanne Hollingshead, Madison, Mississippi, Court of Federal Claims No: 24-1106V

55. Cassandra Ziegler, Pittsburgh, Pennsylvania, Court of Federal Claims No: 24-1109V

56. Steven Archambeau, Perrysburg, Ohio, Court of Federal Claims No: 24-1110V

57. Michael Formato, Fuquay-Varina, North Carolina, Court of Federal Claims No: 24-1111V

58. Kimberly Gebinine, Lakewood, Colorado, Court of Federal Claims No: 24-1112V

59. Lisa Covington, Boston, Massachusetts, Court of Federal Claims No: 24-1113V

60. Renee Bogi, Los Angeles, California, Court of Federal Claims No: 24-1114V

61. Lisa Soucy, Lee, New Hampshire, Court of Federal Claims No: 24-1115V

62. Deborah Surabian, Wakefield, Massachusetts, Court of Federal Claims No: 24-1116V

63. Shayla Allen, West Hollywood, California, Court of Federal Claims No: 24-1119V

64. Shannon Dominguez, Arlington Heights, Illinois, Court of Federal Claims No: 24-1123V

65. Danie'l Survis, Jackson, Wyoming, Court of Federal Claims No: 24-1125V

66. Walter Moore, Detroit, Michigan, Court of Federal Claims No: 24-1126V

67. Linda Simon, Albuquerque, New Mexico, Court of Federal Claims No: 24-1128V

68. Jacob Hall, San Mateo, California, Court of Federal Claims No: 24-1129V

69. Rebecca Taylor, Mocksville, North Carolina, Court of Federal Claims No: 24-1130V

70. Jamie Overby, Magnolia, Texas, Court of Federal Claims No: 24-1131V

71. Sharon Delcorro, Murrells Inlet, South Carolina, Court of Federal Claims No: 24-1133V

72. Drake Gaines, Bradenton, Florida, Court of Federal Claims No: 24-1134V

73. Cynthia Bell-Bonds, Spokane, Washington, Court of Federal Claims No: 24-1137V

74. Arielle Lewis, Los Angeles, California, Court of Federal Claims No: 24-1138V

75. Alvin Thomas, III, Orlando, Florida, Court of Federal Claims No: 24-1139V

76. Nancy Wasserstein, Brooklyn, New York, Court of Federal Claims No: 24-1142V

77. Christy Williams, Conyers, Georgia, Court of Federal Claims No: 24-1143V

78. Ronald Cato, Spartanburg, South Carolina, Court of Federal Claims No: 24-1145V

79. Angel Acevedo, Sioux Falls, South Dakota, Court of Federal Claims No: 24-1146V

80. Tracy Ray, New York, New York, Court of Federal Claims No: 24-1149V

81. Zachary Haller, Pittsburgh, California, Court of Federal Claims No: 24-1153V

82. Edward Quiroz, Surprise, Arizona, Court of Federal Claims No: 24-1156V

83. Teresa Betancourt, West New York, New Jersey, Court of Federal Claims No: 24-1157V

84. Kathleen A. Merante, Pittsburgh, Pennsylvania, Court of Federal Claims No: 24-1158V

85. Katrina Nazreth, Columbia, South Carolina, Court of Federal Claims No: 24-1162V

86. Ameleah Pfeiffer, Warren, Michigan, Court of Federal Claims No: 24-1163V

87. Joseph Virissimo on behalf of M.V., Las Vegas, Nevada, Court of Federal Claims No: 24-1168V

88. James McMahon, Dresher, Pennsylvania, Court of Federal Claims No: 24-1169V

89. Michael Gross, Minneapolis, Minnesota, Court of Federal Claims No: 24-1170V

90. James Wilkerson, Spooner, Wisconsin, Court of Federal Claims No: 24-1172V

91. James McDowell, Silver Spring, Maryland, Court of Federal Claims No: 24-1173V

92. Eric Ruffo, San Antonio, Texas, Court of Federal Claims No: 24-1174V

[FR Doc. 2024-18733 Filed 8-20-24; 8:45 am]

BILLING CODE 4165-15-P